DEPARTMENT OF THE TREASURY

Treasury Advisory Committee on Commercial Operations of the U.S. Customs Service

AGENCY: Departmental Offices, Treasury.

ACTION: Notice of meeting.

SUMMARY: This notice announces the date, time, and location for the quarterly meeting of the Treasury Advisory Committee on Commercial Operations of the U.S. Customs Service (COAC), and the provisional meeting agenda.

DATES: The next meeting of the Treasury Advisory Committee on Commercial Operations of the U.S. Customs Service will be held on Friday, March 22, 2002, starting at 9:00 a.m., at the Port of New Orleans Office Building, Main Auditorium, 1350 Port of New Orleans Place, New Orleans, LA 70130. The duration of the meeting will be approximately four hours.

FOR FURTHER INFORMATION, CONTACT: Gordana S. Earp, Deputy Director, Tariff and Trade Affairs (Enforcement), Office of the Under Secretary (Enforcement), Telephone: (202) 622-0336.

At this meeting, the Advisory Committee is expected to pursue the following agenda. The agenda may be modified prior to the meeting.

Agenda

(1) Update on the COAC Report on Improving U.S. Border and Supply Chain Security, including report on the work of the Technology Technical Advisory Team

(2) Report of the Office of Rulings & Regulations

(3) Compliance Assessment Programs (Focused Assessment, ICMP)

(4) Issues Relating to Uniformity

(5) Other COAC Priorities

(6) Next Meetings

SUPPLEMENTARY INFORMATION: The meeting is open to the public; however, participation in the Committee's deliberations is limited to Committee members, Customs and Treasury Department staff, and persons invited to attend the meeting for special presentations. A person other than an Advisory Committee member who wishes to attend the meeting should contact Theresa Manning at (202) 622-0220 or Helen Belt at (202) 622-0230.

Dated: March 7, 2002.
Timothy E. Skud,
Acting Deputy Assistant Secretary, Regulatory, Tariff, and Trade (Enforcement).

[FR Doc. 02-5964 Filed 3-12-02; 8:45 am]

BILLING CODE 4810-25-P